DEPARTMENT OF JUSTICE

[AAG/A Order No. 269-2002]

Privacy Act of 1974: System of Records

Pursuant to the Privacy Act of 1974 (5 U.S.C. 552a), notice is hereby given that the Department of Justice, Foreign Terrorist Tracking Task Force (FTTTF), is establishing a new system of records entitled “Flight Training Candidates File System, JUSTICE/FTTTF-001.”

The Flight Training Candidates File System is a system of records established pursuant to Section 113 of the Aviation and Transportation Security Act (ATSA), Public Law 107-71, 49 U.S.C. 44939, to support the administration of the required risk assessment of candidates for flight instruction who are aliens or persons designated by the Under Secretary of Transportation for Security, U.S. Department of Transportation. Subsequent to the terrorist hijacking and crashing of aircraft on September 11, 2001, Congress determined that aliens seeking training in the operation of aircraft with a takeoff weight of 12,500 pounds or more should be subject to closer scrutiny. Pursuant to section 113 of the ATSA, persons who wish to provide such training to aliens or others designated by the Under Secretary of Transportation for Security must first notify the Attorney General, and provide identifying information with regard to the prospective trainee, so that the Attorney General may determine whether the prospective trainee poses a risk to aviation or national security.

It is likely that the majority of the persons in this system of records will be foreign nationals who are not permanent resident aliens of the United States and, therefore, are not covered by the provisions of the Privacy Act. This notice is intended for flight training candidates and flight instructors whose personal information is included in this system of records and who are covered by the provisions of the Privacy Act because they are either United States citizens or permanent resident aliens.

In accordance with 5 U.S.C. 552a(r), the Department has provided a report to the Office of Management and Budget and the Congress.

Dated: June 5, 2002.
Robert F. Diegelman,
Acting Assistant Attorney General for Administration.

JUSTICE/FTTTF-001

System Name:

Flight Training Candidates File System, FTTTF-001.

System Location:

Foreign Terrorist Tracking Task Force (FTTTF), U.S. Department of Justice, Washington, DC 20530

Categories of Individuals Covered by the System:

Aliens and persons designated by the Under Secretary of Transportation for Security, U.S. Department of Transportation, pursuant to section 113 of the Aviation and Transportation Security Act (ATSA) who are seeking training from a Federal Aviation Administration (FAA) certificated instructor in the operation of any aircraft with maximum certificated takeoff weight of 12,500 pounds or more (“flight training candidates”); flight instructors who wish to provide such training (“providers”).

Categories of Records in the System:

Flight training candidate applications and identifying information contained therein (e.g., name, date of birth, place of birth, country of residence, education, travel, etc.); authorizations for the release of information; basic identifying information of providers (e.g., name, address, telephone number, FAA certification number); classified risk assessment reports; records received from the Federal Bureau of Investigation regarding the results of its fingerprint and name checks of the flight training candidate; and electronic copies of correspondence to flight training candidates, providers, the Immigration and Naturalization Service and the Department of State advising them as to whether individual candidates have been determined to pose a risk to aviation or national security.

Authority for Maintenance of the System:

Section 113 of the Aviation and Transportation Security Act, Pub. L. 107-71, codified at 49 U.S.C. 44939; Homeland Security Presidential Directive-2, October 29, 2001, “Combating Terrorism Through Immigration Policies.”

Purpose(s):

The system will be used to collect information and conduct the risk assessments required under section 113 of ATSA.

Routine Uses of Records Maintained in the System, Including Categories of Users and the Purposes of Such Uses:

Routine uses may be published at a later date with an opportunity for comment. In the interim, disclosures will be made only with the written consent of the individuals.

Policies and Practices for Storing, Retrieving, Accessing, Retaining and Disposing of Records in the System:

Storage:

All data in this system is maintained solely in electronic form.

Retrievability:

Data is retrieved by the name of the flight training candidate or the provider.

Safeguards:

Information in this system is safeguarded in accordance with applicable rules and policies, including the Department's automated systems security and access policies. Classified information is appropriately stored in secure facilities, databases, and containers and in accordance with other applicable requirements. In general, records and technical equipment are maintained in buildings with restricted access. The required system protection methods also restrict access. Access is limited to those who have a need for access to perform their official duties.

Retention and Disposal:

Records concerning an individual will be deleted from the system when: (a) The individual reaches 99 years of age or 5 years have elapsed since a report of the individual's death; or (b) when no longer needed for reference, whichever is sooner (pending approval of the Archivist of the United States).

System Manager(s) and Address:

Director, Foreign Terrorist Tracking Task Force, Department of Justice, 950 Pennsylvania Avenue, NW., Washington, DC 20530.

Notification Procedures:

Address inquiries to the System Manager named above.

Record Access Procedures:

Any flight training candidate or provider who submits information into the system will be able to view online the information they submit through the use of a password. U.S. citizens and Permanent Resident Aliens may seek access to additional information about a request for training by writing to the System Manager listed above. The request should include a general description of the records sought and must include the requester's full name, current address and date and place of birth. The request must be signed and either notarized or submitted under penalty of perjury. Some information may be exempt from access as described in the section entitled “Systems Exempted from Certain Provisions of the Act.” A determination as to whether a record may be accessed will be made at the time a request is received.

Contesting Record Procedures:

U.S. Citizens or Permanent Resident Aliens who wish to contest, or seek amendment of, the information maintained in the system should direct their requests to the System Manager listed above. Requests should clearly and concisely state what information is being contested, the reason(s) for contesting it, and the proposed amendment to the record. Some information may be exempt from amendment and contesting record procedures as described in the section entitled “Systems Exempted from Certain Provisions of the Act.” A determination as to whether a record may be amended will be made at the time a request is received.

Record Source Categories:

Information in this system of records will be obtained from flight training candidates; providers; and individuals or entities having information pertinent to the determination of risk to aviation or national security, including but not limited to purveyors of public source data, governmental entities, and the FAA.

Systems Exempted from Certain Provisions of the Act:

The Attorney General has exempted this system from subsections (c)(3), (d)(1), (2), (3) and (4), and (e)(1) and (4)(I) of the Privacy Act, pursuant to 5 U.S.C. 552a(k)(1). This exemption applies only to the extent that information in the system is subject to exemption pursuant to 5 U.S.C. 552a(k)(1).

Rules have been promulgated in accordance with the requirements of 5 U.S.C. 553(b), (c) and (e) and have been published in the Federal Register.

[FR Doc. 02-14615 Filed 6-6-02; 2:35 pm]

BILLING CODE 4410-FB-P